DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of December 1, 2018 through December 31, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely; AND (ii and iii below)

(ii) (I) imports of articles or services like or directly competitive with articles produced or services supplied by such firm have increased; OR (II)(aa) imports of articles like or directly competitive with articles into which one or more component parts produced by such firm are directly incorporated, have increased; OR (II)(bb) imports of articles like or directly competitive with articles which are produced directly using the services supplied by such firm, have increased; OR (III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services from a Foreign Country Path:

(i) (I) There has been a shift by such workers' firm to a foreign country in the production of articles or the supply of services like or directly competitive with articles which are produced or services which are supplied by such firm; OR (II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
93,957 | Mallinckrodt Enterprises, LLC, Mallinckrodt plc | St. Louis, MO | July 5, 2017.
94,046 | Teters Floral Products, Inc., Penmac Personnel Services, Express Employment Professionals | Bolivar, MO | August 6, 2017.
94,203 | Floturn, Inc | Fairfield, OH | October 3, 2017.
94,230 | Heritage Home Group, LLC, Eastchester Offices, Accounting Principles, Onin Staffing, etc | High Point, NC | October 5, 2017.
94,230A | Heritage Home Group, LLC, Morrison Ave Distribution Center | Thomasville, NC | October 5, 2017.
94,230B | Heritage Home Group, LLC, Lenoir Case Goods Plant, Lenoir Wood Plant, Jobs One Staffing | Lenoir, NC | October 5, 2017.
94,230C | Heritage Home Group, LLC, Lenoir Upholstery Plant, Jobs One Staffing | Lenoir, NC | October 5, 2017.
94,271 | Homer Donaldson Company LLC, U.S. Staffing Agency | Hudson, MI | October 23, 2017.
94,327 | Keurig Green Mountain, Inc., Keurig Dr Pepper, Inc., Randstad, Westaff, Spherion Staffing Services | Waterbury, VT | November 16, 2018.
94,327A | Keurig Green Mountain, Inc., Keurig Dr Pepper Inc., Bay State Search, Randstad Staffing, Spherion, etc | Waterbury Center, VT | November 8, 2017.
94,327B | Atwork/PPS, Bay State Search, Clearbridge Technology Group, Robert Half, Keurig Green Mountain, Inc., Keurig Dr Pepper Inc | Waterbury, VT | November 8, 2017.

The following certifications have been issued. The requirements of Section 222(a)(2)(B) (Shift in Production or Services to a Foreign Country Path or Acquisition of Articles or Services from a Foreign Country Path) of the Trade Act have been met.

TA-W No. | Subject firm | Location | Impact date
93,708 | MOL (America) Inc., MOL (Americas) Holding, Inc., Mitsui O.S.K. Lines, LTD., Robert Half, etc | Woodbridge, NJ | April 6, 2017.
93,864 | Deluxe 3D LLC, Deluxe Creative Services Inc., Deluxe Shared Services Inc | Burbank, CA | June 1, 2017.
93,889 | MG Industries Erie, Inc | Lake City, PA | June 13, 2017.
93,954 | Two Rivers Conferencing, LLC | Elk Grove Village, IL | July 3, 2017.
93,979 | Commonwealth Brands, Inc., ITG Brands, LLC Division, Imperial Brands, PLC, Staff King Services, etc | Reidsville, NC | July 12, 2017.
93,983 | Wells Fargo Home Lending Retail Fulfillment-East, Wells Fargo & Company, Consumer Lending Group (CLG) | Pittsford, NY | July 12, 2017.
94,086 | Micron Technology, Inc., Experis, Manpower Group | Boise, ID | December 14, 2018.
94,095 | CDK Global, LLC, Client Services Infrastructure Division, CDK Global, Inc | Cincinnati, OH | August 27, 2017.
94,114 | Famma Group Inc., Patternmaking Department | Los Angeles, CA | September 6, 2017.
94,138 | Bose Corporation, Global Sales Division, Randstad | Westborough, MA | April 8, 2018.
94,138A | iGate Technologies, Inc., Capgemini, Securitas Security Services USA, Inc., Bose Corporation, Global Sales Division | Westborough, MA | September 13, 2017.
94,139 | Kodak Alaris Inc., Credit & Collections Team, Kodak Alaris Holdings Limited | Rochester, NY | September 17, 2017.
94,151 | HSBC Technology and Services, USA (HTSU), Financial Crime Risk Division, HSBC North America Holdings Inc | Buffalo, NY | September 20, 2017.
94,163 | Partners Healthcare Inc., Corporate Coding Division, Randstad and Bullfinch Temps | Somerville, MA | September 22, 2017.
94,189 | Siemens Demag Delaval Turbomachinery Inc., Power Generation Services, Siemens Energy Inc., etc | Trenton, NJ | October 1, 2017.
94,191 | Wells Fargo Bank NA, Wells Fargo Consumer Lending Group—Customer Account Management, etc | St. Louis Park, MN | September 28, 2017.
94,208 | Ambit Management LLC, Call Center Services, Ambit Holdings US LLC | Plano, TX | October 8, 2017.
94,211 | International Business Machines (IBM), IBM Department B2AA and B4ZA, Global Business Services Division | San Ramon, CA | October 5, 2017.
94,212 | Qualcomm Technologies, Inc., Technical Publications Communications Group, Qualcomm, Inc | San Diego, CA | September 3, 2018.
94,213 | Citizens Bank, National Association, Citizens Financial Group, Inc., Home Mortgage Operations Division | Glen Allen, VA | October 5, 2017.
94,213A | Citizens Bank, National Association, Citizens Financial Group, Inc., Home Mortgage Operations Division, etc | Warwick, RI | October 5, 2017.
94,213B | Citizens Bank, National Association, Citizens Financial Group, Inc., Home Mortgage Operations Division | Cincinnati, OH | October 5, 2017.
94,215 | The TJX Companies Inc., Corporate IT Department, A&A Search Staffing, LLC, Accenture LLP, etc | Marlborough, MA | October 9, 2017.
94,216 | Union Electric Akers, Akers National Roll, Ampco-Pittsburgh Corporation/Union Electric Akers | Avonmore, PA | November 4, 2018.
94,220 | Neff Motivation, Inc., Data Entry, Accounting, and Customer Services, Jostens, Inc. Division, etc | Greenville, OH | October 9, 2017.
94,234 | GBG USA Inc., Samplemaking and Patternmaking, GBG North America Holdings, Win-Temp LLC | Vernon, CA | October 12, 2017.
94,235 | Viant Monticello, Inc., MedPlast Monticello, Inc., Plastics Processing Solutions Division, etc | Monticello, IA | October 15, 2017.
94,237 | Trelleborg Offshore US, Inc., Advantage | Houston, TX | October 15, 2017.
94,239 | Carlson Wagonlit Travel, Inc., CWT Holdco BV | Minnetonka, MN | October 16, 2017.
94,241 | Daikin Applied Americas, Daikin Industries, Ltd., ResourceMFG | Verona, VA | October 16, 2017.
94,242 | International Business Machines (IBM), IBM Department B7DB PCM Midrange, Global Technology Services (GTS) Division | Southbury, CT | October 16, 2017.
94,249 | Allstate Insurance Company, ABO-Enterprise Services, Policy Administration Department | Roanoke, VA | October 18, 2017.
94,259 | CashStar, Blackhawk Network Holdings, Inc | Portland, ME | October 23, 2017.
94,260 | Qwest Corporation and Level 3 Communications, Desk Top Services and Service Desk teams, CenturyLink, Inc | Monroe, LA | October 22, 2017.
94,260A | Qwest Corporation and Level 3 Communications, Desk Top Services and Service Desk teams, CenturyLink, Inc | Denver, CO | October 22, 2017.
94,260B | Qwest Corporation and Level 3 Communications, Desk Top Services and Service Desk teams, CenturyLink, Inc | Littleton, CO | October 22, 2017.
94,262 | Henkel Corporation, Agile 1 | Salt Lake City, UT | October 22, 2017.
94,263 | J.W. Hulme Company LLC | St. Paul, MN | October 22, 2017.
94,266 | Ossur North America, Ossur hf | Camarillo, CA | October 22, 2017.
94,270 | Medtronic, Culver City, California Division, Aerotek | Culver City, CA | October 23, 2017.
94,278 | Forcepoint LLC, Raytheon Company | Santa Clara, CA | October 25, 2017.
94,280 | Paysafe Group, iPayment, Inc. Division, Howroyd-Wright Employment Agency, Inc., AppleOne | Westlake Village, CA | October 25, 2017.
94,282 | Movement Mortgage, LLC, Norfolk Sales Support Center | Norfolk, VA | October 26, 2017.
94,282A | Movement Mortgage, LLC, Richmond Operations Center | Richmond, VA | October 26, 2017.
94,283 | ULX Partners, United Lex, DXC, LeClairRyan, PLLC, GLC | Glen Allen, VA | October 26, 2017.
94,285 | American Media LLC | Pleasanton, CA | October 29, 2017.
94,286 | Boston Herald, Digital First Media, Media News Group, Inc., MNG Enterprises, Inc., etc | Boston, MA | October 29, 2017.
94,288 | Crawford & Company, Finance Department | Peachtree Corners, GA | October 30, 2017.
94,290 | Connexions Loyalty Travel Solutions, Affinion Group, Connexions Loyalty Division, Aerotek | St. Louis, MO | October 31, 2017.
94,291 | My Experian, Inc., Consumer Call Center | Allen, TX | October 31, 2017.
94,291A | Experian Information Solutions, Inc., Information Technology Services, Talent/Wave/Synergy Services, etc | Allen, TX | October 31, 2017.
94,292 | FXI, Inc., Baldwyn, MS Plant, FXI Holdings, Inc., PeopleLink, etc | Baldwyn, MS | October 23, 2017.
94,294 | MModal Services, Limited | Franklin, TN | November 5, 2017.
94,295 | Overly Door Company | Greensburg, PA | October 31, 2017.
94,298 | Communications Test Design, Inc., Network Services Division, Adecco, NAOS | Lebanon, TN | November 1, 2017.
94,309 | Tangoe US, Inc., Rivermine Custom Product Development Organization | Parsippany, NJ | October 30, 2017.
94,310 | Varex Imaging West, LLC, Varex Imaging Corporation, Ultimate Staffing | Santa Clara, CA | November 5, 2017.
94,311 | Wilbrecht LEDCO, Inc | St. Paul, MN | November 5, 2017.
94,319 | Nokia of America Corporation, Nokia OIY, Nokia Solutions & Networks LLC, Alcatel-Lucent USA Inc | Irving, TX | November 7, 2017.
94,319A | Nokia of America Corporation, Nokia OIY, Nokia Solutions & Networks LLC, Alcatel-Lucent USA Inc | Plano, TX | November 7, 2017.
94,321 | Siemens Healthineers, Advanced Therapies | Hoffman Estates, IL | November 6, 2017.
94,328 | Silberline Manufacturing Company, Inc | Decatur, IN | November 8, 2017.
94,330 | Leuze electronic Inc., Leuze electronic GMBH + CO. KG | Fairport, NY | November 13, 2017.
94,332 | Control Concepts Corporation, c3controls, Manpower | Beaver, PA | November 13, 2017.
94,340 | UTC Fire & Security Americas Corporation, Inc., United Technologies Corporation, Manpower, PDS Tech, etc | Lincolnton, NC | November 14, 2017.
94,345 | Weetabix Company, LLC, Post Consumer Brands, Post Holdings, Micro Tech Staffing, etc | Clinton, MA | November 15, 2017.
94,347 | Boston Scientific Corporation, Cosman Location, Neuromodulation Division, Talent Choice | Burlington, MA | November 19, 2017.
94,349 | International Business Machines (IBM), IBM Department 2WFA, Global Business Services (GBS) Division, Experis | Plano, TX | November 20, 2017.
94,355 | MetrixLab US, Inc., Acturus, Inc., Macromill Group, Data Processing Services | Wexford, PA | November 20, 2017.
94,356 | TE Connectivity, Connectors Division, Aerotek Staffing, RemX Staffing, Peak Technical, etc | Oceanside, CA | November 21, 2017.
94,357 | Tangoe US, Inc., Operations and Audit Organization | Shelton, CT | November 19, 2017.
94,358 | Nokia of America Corporation, Nokia OIY, Nokia Solutions & Networks LLC, Alcatel-Lucent USA Inc | Alpharetta, GA | November 26, 2017.
94,359 | MFS Investment Management, Internal Computer Operations, Massachusetts Financial Services, etc | Boston, MA | November 15, 2017.
94,368 | Global Cash Card, Inc., ADP, Payments, Robert Half International, Anteo Group, Apex Systems, etc | Irvine, CA | November 28, 2017.
94,370 | Knowles Cazenovia, Inc., Knowles Precision Devices, Knowles Corporation, Compex Corporation, etc | West Berlin, NJ | November 29, 2017.
94,371 | Sun Pharmaceutical Industries, Inc., Sun Pharmaceutical Holding, USA, Cranbury Division | Cranbury, NJ | November 29, 2017.
94,376 | Ozonics, LLC | Mason City, IA | November 30, 2017.
94,389 | Huron Consulting Services LLC, Huron Consulting Group Inc., 52 Limited, Addison Professional, etc | Chicago, IL | December 6, 2017.
94,394 | Dormakaba USA Inc., Dormakaba Holdings AG, Lodging Division, Aerotek and Finders | Madison Heights, MI | December 10, 2017.
94,401 | Western Union LLC, The Western Union Company, Customer Care Center of Excellence, etc | Englewood, CO | December 12, 2017.
94,403 | Allscripts Healthcare, LLC, Data Conversion Team, Allscripts Healthcare Solutions, Inc | Chicago, IL | December 16, 2017.

The following certifications have been issued. The requirements of Section 222(b) (supplier to a firm whose workers are certified eligible to apply for TAA) of the Trade Act have been met.

TA-W No. | Subject firm | Location | Impact date
93,850 | Swanson Manufacturing Services Inc., Swanson Industries Inc | Morgantown, WV | May 24, 2017.
93,881 | Commercial Envelope Manufacturing Company, Inc., Cenveo Worldwide Limited, Manpower and Express Employment Professionals | Altoona, PA | June 6, 2017.
94,059 | West Virginia University Research Corporation, West Virginia University Clinical & Pharmacologic Research Center, etc | Morgantown, WV | August 10, 2017.
94,152 | MOL Information Technology America, Inc., America Office, MOL America, Inc., MOL Americas Holding, Inc., etc | Woodbridge, NJ | September 12, 2017.
94,315 | Trigo-SCSI, Caterpillar, PrideStaff | Joliet, IL | November 6, 2017.

The following certifications have been issued. The requirements of Section 222(e) (firms identified by the International Trade Commission) of the Trade Act have been met.

TA-W No. | Subject firm | Location | Impact date
94,090 | Granges Americas, Inc., Newport Facility, Granges AB | Newport, AR | April 13, 2017.
94,147 | Handi-Foil Corporation, Elite Staffing, Midway Staffing, Ron's Staffing Services, The Xcel Group | Wheeling, IL | April 13, 2017.
94,158 | Siskiyou Forest Products, Personnel Preference | Anderson, CA | December 28, 2016.
94,159 | Trinity River Lumber Company | Weaverville, CA | December 28, 2016.
94,200 | Biewer Lumber, Northern Staffing Services, PMP Personnel Services | McBain, MI | December 28, 2016.
94,200A | Biewer Lumber | Lake City, MI | December 28, 2016.
94,204 | Hero BX Alabama LLC, Black Interests LP | Moundville, AL | December 28, 2016.
94,250 | Bell-Carter Foods LLC, Corporate, Marathon Staffing and Express Professionals, etc | Corning, CA | July 31, 2017.
94,250A | Bell-Carter Foods LLC, Corporate, Marathon Staffing and Express Professionals, etc | Walnut Creek, CA | July 31, 2017.
94,254 | McWane, Inc., McWane Industries, AB&I, AB&I Foundry | Oakland, CA | August 28, 2017.
94,255 | Musco Olive Products, Inc., Full Steam Staffing, Abel Mendoza, Accountemps-Robert Half, etc | Tracy, CA | July 31, 2017.
94,273 | MBI (Metal Box International), Edsal Manufacturing Company, Inc | Franklin Park, IL | January 22, 2017.
94,274 | Canfor Southern Pine | Fulton, AL | December 28, 2016.
94,287 | Seneca Sawmill Company | Eugene, OR | December 28, 2016.
94,302 | Seneca Sawmill Company | Noti, OR | December 28, 2016.
94,306 | Stimson Lumber | Clatskanie, OR | December 28, 2016.
94,307 | Stimson Lumber Company | Gaston, OR | December 28, 2016.
94,308 | Stimson Lumber Company | Tillamook, OR | December 28, 2016.
94,320 | Rosboro, LLC | Springfield, OR | December 28, 2016.

Negative Determinations for Worker Adjustment Assistance

In the following cases, the investigation revealed that the eligibility criteria for TAA have not been met for the reasons specified.

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,799 | Toys R Us—Delaware, Inc., Toys R Us, Inc | Merrillville, IN.
93,819 | Avid Technology Inc., Avid Auto LLC, Avid CV LLC, Avid System Inc., Avid Technology, etc | Burlington, MA.
93,853 | Hitachi Consulting Corporation | Denver, CO.
93,864A | Global Digital Media Xchange LLC, Deluxe Entertainment Services Group Inc., Deluxe Shared Services Inc | Los Angeles, CA.
93,965 | Aryzta, LLC, Aryzta AG | Vernon, CA.
94,124 | Byer California, Priority Workforce Inc | Los Angeles, CA.
94,131 | Quad Graphics Inc., Universal Temporary Services Inc | Hazelton, PA.
94,184 | Ames Textiles, Inc., 3A Throwing | Christiansburg, VA.
94,205 | Sprint Enterprise and Government, Wireline and Wireless Collections | Irving, TX.
94,207 | Alsco Industries, Inc., Expert Staffing, CoWorx Staffing Services | Sturbridge, MA.
94,218 | Caliber Home Loans, Inc | Fairfax, VA.
94,224 | Bank of America, Merril Lynch, Pierce, Fenner, and Smith, Inc | Jersey City, NJ.
94,243 | Indivior, Inc., Support Services, Xcenda, Deloitte Consulting LLP, Ernst & Young, etc | North Chesterfield, VA.
94,333 | Fabric Depot | Portland, OR.
94,342 | Wireway/Husky Corporation, Husky Rack & Wire | Sterling, MA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,135 | QBE Americas, Inc., Lender Placed Insurance Division | Moon Township, PA.
94,247 | TaskEasy | Salt Lake City, UT.
94,268 | T. R. Miller Mill Co., Inc | Brewton, AL.
94,338 | Simmons Bedding Company | Fredericksburg, VA.

The following determinations terminating investigations were issued because the worker group on whose behalf the petition was filed is covered under an existing certification.

TA-W No. | Subject firm | Location | Impact date
94,225 | MCPC Inc., Paradigm Infotech, Bay Area Techworkers, Quest Global Services, General Electric Company, GE Transportation Parts, Transportation, etc | Erie, PA.
94,289 | Health Care Service Corporation (HCSC), Remote Workers from Virginia Reporting to Oklahoma City, Oklahoma | Oklahoma City, OK.
94,300 | Ericsson, Inc., Market Area North America Digital Services (MANA DS) Division | Plano, TX.
94,300A | Ericsson, Inc., Market Area North America Digital Services (MANA DS) Division | Richardson, TX.
94,300B | Ericsson, Inc., Market Area North America Digital Services (MANA DS) Division | Irving, TX.
94,301 | Ericsson, Inc., BNEW SAN SEU UCC Division, BNEW GSO SEU HES PSE2 CS Group | Plano, TX.

I hereby certify that the aforementioned determinations were issued during the period of December 1, 2018 through December 31, 2018. These determinations are available on the Department's website https://www.doleta.gov/tradeact/taa/taa_search_form.cfm under the searchable listing determinations or by calling the Office of Trade Adjustment Assistance toll free at 888-365-6822.

Signed at Washington, DC, this 8th day of January 2019.
Hope D. Kinglock,
Certifying Officer, Office of Trade Adjustment Assistance.

[FR Doc. 2019-05054 Filed 3-18-19; 8:45 am]

BILLING CODE 4510-FN-P